DEPARTMENT OF THE INTERIOR

Bureau of Land Management

[NV-030-00-1020-24]

Mojave Southern Great Basin Resource Advisory Council; Notice of Meeting Location and Time

AGENCY: Bureau of Land Management, Interior.

ACTION: Notice of meeting location and time for the Mojave Southern Great Basin Resource Advisory Council (Nevada).

SUMMARY: In accordance with the Federal Land Policy and Management Act and the Federal Advisory Committee Act of 1972 (FACA), the U.S. Department of the Interior, Bureau of Land Management (BLM) Mojave Southern Great Basin Resource Advisory Council (RAC), Nevada, will be held as indicated below. Topics for discussion will include manager's reports of field office activities; an update on the Southern Nevada Public Land Management Act of 1998; and other topics the council may raise.

All meetings are open to the public. The public may present written and/or oral comments to the council at 2:30 p.m. on Thursday, January 17, 2002. Individuals who need special assistance such as sign language interpretation or other reasonable accommodations should contact Phillip Guerrero at (702) 647-5046 by January 11, 2002.

DATES & TIME: The RAC will meet on Thursday, January 17 and Friday January 18, 2002 at the Red Rock Canyon National Conservation Area Visitors Center Friends Room from 8:30 a.m. to 4 p.m. daily.

FOR FURTHER INFORMATION CONTACT: Phillip L. Guerrero, Public Affairs Officer, BLM Las Vegas Field Office, 4765 Vegas Drive, Las Vegas, NV 89108, or by phone at (702) 498-6088.

Dated: December 5, 2001.
Phillip L. Guerrero,
Public Affairs Officer, Las Vegas Field Office.

[FR Doc. 01-32129 Filed 12-31-01; 8:45 am]

BILLING CODE 4310-HC-P